DEPARTMENT OF ENERGY

Federal Energy Regulatory Commission

[Docket No. EC02-69-000, et al.]

Louisville Gas and Electric Company, et al.; Electric Rate and Corporate Regulation Filings

May 20, 2002.

The following filings have been made with the Commission. The filings are listed in ascending order within each docket classification.

1. Louisville Gas and Electric Company, Kentucky Utilities Company, LG&E Capital Trimble County LLC

[Docket No. EC02-69-000]

Take notice that on May 16, 2002, Louisville Gas and Electric Company (LG&E), Kentucky Utilities Company (KU) and LG&E Capital Trimble County LLC (LCTC) filed with the Federal Energy Regulatory Commission an application pursuant to Section 203 of the Federal Power Act for authorization of a disposition of jurisdictional facilities in connection with a Proposed Transaction whereby LCTC will make an intra-corporate transfer of its generating facilities to its affiliates LG&E and KU. Specifically, LCTC will transfer two 152 MW [summer rated] turbines located in Trimble County, Kentucky. The jurisdictional facilities that are the subject of the Section 203 request consist of LCTC's rate schedules on file with the Commission.

Comment Date: June 6, 2002.

2. Duquesne Light Company

[Docket No. ER02-1776-000]

Take notice that on May 9, 2002, Duquesne Light Company (DLC) filed a Service Agreement with UBS AG, London Branch under DLC's Open Access Transmission Tariff (Tariff). The Service Agreement adds UBS AG, London Branch as a customer under the Tariff. DLC requests an effective date of May 9, 2002 for the Service Agreement.

Comment Date: May 30, 2002.

3. Duquesne Light Company

[Docket No. ER02-1777-000]

Take notice that May 9, 2002, Duquesne Light Company (DLC) filed a Service Agreement with UBS AG, London Branch under DLC's Open Access Transmission Tariff (Tariff). The Service Agreement adds UBS AG, London Branch as a customer under the Tariff. DLC requests an effective date of May 9, 2002 for the Service Agreement.

Comment Date: May 30, 2002.

4. Tucson Electric Power Company

[Docket No. ER02-1778-000]

Take notice that on May 9, 2002, Tucson Electric Power Company tendered for filing the 1990-2011 Power Sale Agreement between Tucson Electric Power Company and Salt River Project Agricultural Improvement and Power District as revised by the May 1, 2002, Amended and Restated Exhibit A.

Comment Date: May 30, 2002.

5. PECO Energy Company

[Docket No. ER02-1779-000]

Take notice that on May 9, 2002, PECO Energy Company (PECO) submitted for filing an Interconnection Agreement between PECO, and Rock Springs Generation LLC and CED Rock Springs, Inc. (Rock Springs/CED) related to the interconnection of Rock Springs/CED's transmission facilities with PECO's transmission facilities, together with a request for deferral of Commission action on a disputed provision of the Interconnection Agreement subject to the resolution of a related PJM proceeding. The Interconnection Agreement has been designated as Service Agreement No. 669 under PJM Interconnection L.L.C.'s (PJM) FERC Electric Tariff Fourth Revised Volume No. 1. PECO has requested the Commission to accept the undisputed provisions of the Interconnection Agreement and to permit an effective date of May 10, 2002. Copies of this filing were served on Rock Springs/CED and PJM.

Comment Date: May 30, 2002.

6. Entergy Services, Inc.

[Docket No. ER02-1780-000]

Take notice that on May 9, 2002, Entergy Services, Inc., on behalf of Entergy Arkansas, Inc., Entergy Gulf States, Inc., Entergy Louisiana, Inc., Entergy Mississippi, Inc., and Entergy New Orleans, Inc., (collectively, the Entergy Operating Companies) tendered for filing a Long-Term Firm Point-To-Point Transmission Service Agreement between Entergy Services, Inc., as agent for the Entergy Operating Companies, and Entergy-Koch Trading, LP.

Comment Date: May 30, 2002.

7. Entergy Services, Inc.

[Docket No. ER02-1781-000]

Take notice that on May 9, 2002, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and Split Rock Energy LLC.

Comment Date: May 30, 2002.

8. Entergy Services, Inc.

[Docket No. ER02-1782-000]

Take notice that on May 9, 2002, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and UBS AG, London Branch.

Comment Date: May 30, 2002.

9. Entergy Services, Inc.

[Docket No. ER02-1783-000]

Take notice that on May 9, 2002, Entergy Services, Inc. (Entergy Services), as agent for Entergy Arkansas, Inc., Entergy Gulf States, Inc., Entergy Louisiana, Inc., Entergy Mississippi, Inc., and Entergy New Orleans, Inc., (collectively the Entergy Operating Companies), tendered for filing its 2002 Annual rate redetermination update (Update) in accordance with the Open Access Transmission Tariff filed in compliance with FERC Order No. 888 in Docket No. OA96-158-000. Entergy Service states that the Update redetermines the formula rate in accordance with the annual rate redetermination provisions of Appendix 1 to Attachment H and Appendix A to Schedule 7.

Comment Date: May 30, 2002.

10. NorthWestern Energy, L.L.C.

[Docket No. ER02-1784-000]

Take notice that on May 9, 2002, NorthWestern Energy, L.L.C. tendered for filing with the Federal Energy Regulatory Commission (Commission) a Notice of Succession adopting all applicable rate schedules, service agreement, tariffs and supplements thereto previously filed with the Commission by The Montana Power Company.

Comment Date: May 30, 2002.

11. Thermo Cogeneration Partnership, L.P.

[Docket No. ER02-1785-000]

Take notice that on May 9, 2002, Thermo Cogeneration Partnership, L.P. (Thermo Cogeneration) tendered for filing an application for waivers and blanket approvals under various regulations of the Commission and for an order accepting Thermo Cogeneration's FERC Electric Rate Schedule No. 1. Thermo Cogeneration requests waiver of the 60-day prior notice requirement to permit Thermo Cogeneration's Rate Schedule to be effective July 1, 2002, and requests expeditious Commission approval of this Application prior to that date.

Thermo Cogeneration intends to engage in electric power and energy transactions through power purchase agreements with Public Service Company of Colorado. In transactions where Thermo Cogeneration sells electric energy, it proposes to make such sales on rates, terms and conditions to be mutually agreed to with the purchasing party. Thermo Cogeneration's proposed Rate Schedule also permits it to reassign transmission capacity.

Comment Date: May 30, 2002.

12. Kentucky Utilities Company

[Docket No. ER02-1786-000]

Take notice that on May 10, 2002, Kentucky Utilities Company tendered for filing an executed Amendment to the interconnection agreement between Kentucky Utilities Company and East Kentucky Power Cooperative, Inc. The agreements provides for the construction of facilities to add an additional interconnection point on Kentucky Utilities Company's Taylor County to Lebanon 69kV transmission line to serve the new load area referred to as the East Campbellsville load station. The Amendment is numbered 19.

Comment Date: May 31, 2002.

13. American Electric Power

[Docket No. ER02-1787-000]

Take notice that on May 10, 2002, American Electric Power Service Corporation, tendered for filing with the Federal Energy Regulatory Commission (Commission), a Facilities, Operation and Maintenance Agreement (Facility Agreement) dated January 31, 2002, between Ohio Power Company (d/b/a AEP), Paulding-Putnam Electric Cooperative, Inc (hereinafter called Paulding Putnam) and Buckeye Power, Inc. (hereinafter called Buckeye).

The Facility Agreement provides for the establishment of a new delivery point, pursuant to the provisions of the Power Delivery Agreement between Ohio Power, Buckeye, The Cincinnati Gas & Electric Company, The Dayton Power and Light Company, Monongahela Power Company, Columbus Southern Power Company and Toledo Edison Company, dated January 1, 1968. AEP requests an effective date of May 31, 2002 for the Facility Agreement.

AEP states that copies of its filing were served upon Paulding-Putnam, Buckeye and the Public Utilities Commission of Ohio.

Comment Date: May 31, 2002.

14. Vandolah Power Company, L.L.C.

[Docket No. ER02-1788-000]

Take notice that on May 10, 2002, pursuant to Section 205 of the Federal Power Act, 16 U.S.C. 824d, and its market based rate authority, Vandolah Power Company, L.L.C. (Vandolah) submitted for filing a power purchase agreement (designated as Service Agreement No. 1) between itself and Reliant Energy Services, Inc. Vandolah seeks an effective date for the service agreement of April 18, 2002.

Comment Date: May 31, 2002.

15. Puget Sound Energy, Inc.

[Docket No. ER02-1789-000]

Take notice that on May 10, 2002, Puget Sound Energy, Inc., as Transmission Provider, tendered for filing with the Federal Energy Regulatory Commission (Commission), a Service Agreement for Long-Term Firm Point-To-Point Transmission Service acting by and through the Bonneville Power Administration (Bonneville), as Transmission Customer. A copy of the filing was served upon Bonneville.

Comment Date: May 31, 2002.

16. San Diego Gas & Electric Company

[Docket No. ER02-1790-000]

Take notice that on May 10, 2002, San Diego Gas & Electric Company (SDG&E) tendered for filing Amendment No. 1 to Interconnection Facilities Agreement between SDG&E and Otay Mesa Generating Company, LLC, designated as First Revised Service Agreement Number 1 to FERC Electric Tariff, Volume No. 6.

Amendment No. 1, dated April 23, 2002, implements Internal Revenue Service Notice 2001-82, “Expansion of Safe Harbor Provisions Under Notice 88-129”, which provides in certain circumstances, regulated public utilities, such as SDG&E will not realize income upon contributions by interconnecting electric generators of certain interconnection facilities. This amendment further clarifies terms pertaining to creditworthiness requirements of OMG and the guarantor of OMG's financial obligations as contemplated by Section 10.22. SDG&E requests an effective date of May 10, 2002.

SDG&E states that copies of the amended filing have been served on Otay Mesa Generating Company, LLC and on the California Public Utilities Commission.

Comment Date: May 31, 2002.

Standard Paragraph

E. Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-13188 Filed 5-24-02; 8:45 am]

BILLING CODE 6717-01-P